DEPARTMENT OF HOMELAND SECURITY

Federal Emergency Management Agency

44 CFR Part 65

[Docket ID FEMA-2010-0003; Internal Agency Docket No. FEMA-B-1141]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona: Maricopa | Unincorporated areas of Maricopa County (09-09-1387P) | June 10, 2010, June 17, 2010, Arizona Business Gazette | The Honorable Don Stapley, Chairman, Maricopa County Board of Supervisors, 301 West Jefferson Street, 10th Floor, Phoenix, AZ 85003 | October 15, 2010 | 040037
Colorado: Arapahoe | City of Aurora (10-08-0421P) | June 3, 2010, June 10, 2010, Aurora Sentinel | The Honorable Ed Tauer, Mayor, City of Aurora, 15151 East Alameda Parkway, Aurora, CO 80012 | October 8, 2010 | 080002
Colorado: Boulder | City of Boulder (10-08-0267P) | June 10, 2010, June 17, 2010, The Daily Camera | The Honorable Susan Osborne, Mayor, City of Boulder, P.O. Box 791, Boulder, CO 80306 | October 15, 2010 | 080024
Colorado: Boulder | Unincorporated areas of Boulder County (10-08-0267P) | June 10, 2010, June 17, 2010, The Daily Camera | The Honorable Cindy Domenico, Chair, Boulder County Board of Commissioners, P.O. Box 471, Boulder, CO 80306 | October 15, 2010 | 080023
Florida: Charlotte | Unincorporated areas of Charlotte County (10-04-1461P) | May 28, 2010, June 4, 2010, Charlotte Sun | The Honorable Bob Starr, Chairman, Charlotte County Board of Commissioners, 18500 Murdock Circle, Port Charlotte, FL 33948 | October 4, 2010 | 120061
Florida: Collier | City of Naples (10-04-3471P) | June 4, 2010, June 11, 2010, Naples Daily News | The Honorable Bill Barnett, Mayor, City of Naples, 735 8th Street South, Naples, FL 34102 | May 21, 2010 | 125130
Florida: Sarasota | City of Sarasota (10-04-3887P) | June 4, 2010, June 11, 2010, Sarasota Herald-Tribune | The Honorable Kelly M. Kirschner, Mayor, City of Sarasota, 1565 1st Street, Sarasota, FL 34236 | May 26, 2010 | 125150
Georgia: Polk | City of Cedartown (09-04-0250P) | April 22, 2010, April 29, 2010, The Cedartown Standard | The Honorable Larry Odom, Chairman, City of Cedartown Board of Commissioners, 201 East Avenue, Cedartown, GA 30125 | August 27, 2010 | 130153
Hawaii: Hawaii | Unincorporated areas of Hawaii County (09-09-2120P) | June 10, 2010, June 17, 2010, Hawaii Tribune-Herald | The Honorable William P. Kenoi, Mayor, Hawaii County, 25 Aupuni Street, Hilo, HI 96720 | October 15, 2010 | 155166
Kansas: Johnson | City of Fairway (09-07-1447P) | June 9, 2010, June 16, 2010, The Johnson County Sun | The Honorable Jerry Wiley, Mayor, City of Fairway, 4210 Shawnee Mission Parkway, Suite 100, Fairway, KS 66205 | May 28, 2010 | 205185
Louisiana: Tangipahoa | Unincorporated areas of Tangipahoa Parish (09-06-2518P) | June 4, 2010, June 11, 2010, Hammond Daily Star | The Honorable Gordon Burgess, President, Tangipahoa Parish, 206 East Mulberry Street, Amite, LA 70422 | July 23, 2010 | 220206
Missouri: St. Louis | City of Des Peres (09-07-0141P) | June 10, 2010, June 17, 2010, The Countian | The Honorable Richard G. Lahr, Mayor, City of Des Peres, 12325 Manchester Road, Des Peres, MO 63131 | October 15, 2010 | 290347
New Mexico: Bernalillo | Unincorporated areas of Bernalillo County (10-06-1078P) | May 26, 2010, June 2, 2010, Albuquerque Journal | The Honorable Deanna A. Archuleta, Chair, Bernalillo County Board of Commissioners, One Civic Plaza Northwest, 10th Floor, Albuquerque, NM 87102 | September 30, 2010 | 350001
New York: Westchester | Village of Mamaroneck (10-02-0098P) | April 26, 2010, May 3, 2010, The Journal News | The Honorable Norman S. Rosenblum, Mayor, Village of Mamaroneck, 123 Mamaroneck Avenue, Mamaroneck, NY 10543 | October 19, 2010 | 360916
North Carolina: Guilford | City of Greensboro (09-04-4869P) | May 27, 2010, June 3, 2010, Greensboro News and Record | The Honorable William H. Knight, Mayor, City of Greensboro, P.O. Box 3136, Greensboro, NC 27402 | October 1, 2010 | 375351
North Carolina: Orange | Town of Carrboro (09-04-5619P) | June 4, 2010, June 11, 2010, Chapel Hill Herald | The Honorable Mark Chilton, Mayor, Town of Carrboro, 301 West Main Street, Carrboro, NC 27510 | October 12, 2010 | 370275
Texas: Collin | City of Dallas (10-06-1626P) | May 25, 2010, June 1, 2010, Dallas Morning News | The Honorable Tom Leppert, Mayor, City of Dallas, 1500 Marilla Street, Room 5EN, Dallas, TX 75201 | May 17, 2010 | 480171
Texas: Harris | City of Houston (09-06-3048P) | May 25, 2010, June 1, 2010, The Houston Chronicle | The Honorable Annise D. Parker, Mayor, City of Houston, P.O. Box 1562, Houston, TX 77251 | September 29, 2010 | 480296
Texas: Jefferson | City of Beaumont (09-06-2516P) | June 10, 2010, June 17, 2010, Beaumont Enterprise | The Honorable Becky Ames, Mayor, City of Beaumont, 801 Main Street, Suite 205, Beaumont, TX 77704 | October 15, 2010 | 485457
Virginia: Frederick | City of Winchester (10-03-0692P) | April 29, 2010, May 6, 2010, The Winchester Star | The Honorable Elizabeth Minor, Mayor, City of Winchester, 15 North Cameron Street, Winchester, VA 22601 | April 22, 2010 | 510173

(Catalog of Federal Domestic Assistance No. 97.022, “Flood Insurance.”)

Dated: December 3, 2010.
Sandra K. Knight,
Deputy Federal Insurance and Mitigation Administrator, Mitigation, Department of Homeland Security, Federal Emergency Management Agency.

[FR Doc. 2010-31516 Filed 12-15-10; 8:45 am]

BILLING CODE 9110-12-P